DEPARTMENT OF COMMERCE

National Oceanic and Atmospheric Administration

[I.D. 121801B]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene public meetings of the Standing and Special Reef Fish Scientific and Statistical Committee (SSC) and the Reef Fish Advisory Panel (AP) from January 7 through January 11, 2002.

DATES: The Council’s Reef Fish AP will convene at 9 a.m. (EST) on Monday, January 7, 2002 and conclude by 5 p.m. Wednesday, January 9, 2002. The Council will also convene a meeting of the Standing and Special Reef Fish SSC at 8:30 a.m. (EST) on Thursday, January 10, 2002 and conclude by 5 p.m. on Friday, January 11, 2002.

ADDRESSES: The meetings will be held at the Hilton Tampa Airport Hotel, 2225 Lois Avenue, Tampa, FL 33607; telephone: 813-877-6688.

Council address: Gulf of Mexico Fishery Management Council, 3018 U.S. Highway 301 North, Suite 1000, Tampa, FL 33619.

FOR FURTHER INFORMATION CONTACT: Mr. Steven Atran, Population Dynamics Statistician, Gulf of Mexico Fishery Management Council; telephone: 813-228-2815.

SUPPLEMENTARY INFORMATION: The AP and the SSC will review a report from the Council’s Reef Fish Stock Assessment Panel (RFSAP) summarizing recent NMFS stock assessments, recommendations for allowable biological catch (ABC) and thresholds for status determination for gag, vermilion snapper, and gray triggerfish. They will also review a report from the Council’s Socioeconomic Panel (SEP) summarizing the available economic and social information and implications of setting recommended ABC levels for those stocks. The SSC will comment on the scientific validity of these reports, and both the SSC and AP may make recommendations for setting total allowable catch (TAC) or other management measures for these stocks.

Although other non-emergency issues not on the agenda may come before the AP/SSC for discussion, in accordance with the Magnuson-Stevens Fishery Conservation and Management Act, those issues may not be the subject of formal action during these meetings. Actions of the AP/SSC will be restricted to those issues specifically identified in the agendas and any issues arising after publication of this notice that require emergency action under Section 305(c) of the Magnuson-Stevens Act, provided the public has been notified of the Council's intent to take action to address the emergency.

Copies of the agenda can be obtained by calling 813-228-2815.

Special Accommodations

This meeting is physically accessible to people with disabilities. Requests for sign language interpretation or other auxiliary aids should be directed to Anne Alford at the Council (see ADDRESSES) by December 31, 2001.

Dated: December 18, 2001.
Richard W. Surdi,
Acting Director, Office of Sustainable Fisheries, National Marine Fisheries Service.

[FR Doc. 01-31543 Filed 12-20-01; 8:45 am]

BILLING CODE 3510-22-S